AGENCY FOR INTERNATIONAL DEVELOPMENT

Notice of Meeting

Pursuant to the Federal Advisory Committee Act, notice is hereby given of a meeting of the Advisory Committee on Voluntary Foreign Aid (ACVFA).

Date: October 1, 2003 (9 a.m. to 5 p.m.).

Location: National Press Club, 529 14th St., NW., 13th Floor, Washington, DC.

This meeting will feature discussion of gender issues in commemoration of the 30th anniversary of the Percy Amendment. Other topics to be covered include post-conflict reconstruction, the Millennium Challenge Corporation, as well as HIV/AIDS programs. Participants will have an opportunity to ask questions of the speakers and participate in the discussion.

The meeting is free and open to the public. Persons wishing to attend the meeting can fax or e-mail their name to Ashley Mattison, 202-347-9212, pvcsupport@datexinc.com.

Dated: August 26, 2003.
Noreen O'Meara,
Executive Director, Advisory Committee on Voluntary Foreign Aid (ACVFA).

[FR Doc. 03-22395 Filed 9-2-03; 8:45 am]

BILLING CODE 6116-01-P